FEDERAL DEPOSIT INSURANCE CORPORATION

Sunshine Act Meeting

Pursuant to the provisions of the “Government in the Sunshine Act” (5 U.S.C. 552b), notice is hereby given that the Federal Deposit Insurance Corporation's Board of Directors will meet in open session at 10 a.m. on Tuesday, November 8, 2005, to consider the following matters:

Summary Agenda

No substantive discussion of the following items is anticipated. These matters will be resolved with a single vote unless a member of the Board of Directors requests that an item be moved to the discussion agenda.

Summary reports, status reports, and reports of actions taken pursuant to authority delegated by the Board of Directors.

Memorandum and resolution re: Final Rule Implementing Senior Examiner Post-employment Restrictions under section 10(k) of the Federal Deposit Insurance Act, as added by the Intelligence Reform and Terrorism Prevention Act of 2004.

Memorandum and resolution re: Final Part 334 Medical Privacy Regulations under the Fair and Accurate Credit Transactions Act of 2003.

Discussion Agenda

Memorandum re: The FDIC Insurance Funds: Outlook and Premium Rate Recommendations for the First Semiannual Assessment Period of 2006.

Memorandum and resolution re: Final Rule—Amendments to Annual Audit and Reporting Requirements (Part 363) to Raise the Asset Size Threshold for Assessments of Internal Control Over Financial Reporting and for Independent Audit Committees from $500 Million to $1 Billion.

The meeting will be held in the Board Room on the sixth floor of the FDIC Building located at 550—17th Street, NW., Washington, DC.

The FDIC will provide attendees with auxiliary aids (e.g., sign language interpretation) required for this meeting. Those attendees needing such assistance should call (202) 416-2089 (Voice); or (202) 416-2007 (TTY), to make necessary arrangements.

Requests for further information concerning the meeting may be directed to Mr. Robert E. Feldman, Executive Secretary of the Corporation, at (202) 898-7122.

Dated: November 1, 2005.
Federal Deposit Insurance Corporation.
Robert E. Feldman,
Executive Secretary.

[FR Doc. 05-22174 Filed 11-2-05; 5:10 pm]

BILLING CODE 6714-01-M